NUCLEAR REGULATORY COMMISSION

[NRC-2009-0346]

Request for Information on Low-Level Radioactive Waste Disposal and Notice of Public Meeting

AGENCY: Nuclear Regulatory Commission.

ACTION: Notice of public meeting and request for information.

SUMMARY: The U.S. Nuclear Regulatory Commission (NRC) staff is conducting a public meeting to gather information to assess the effect of a lack of access to low-level waste (LLW) disposal facilities on those who use radioactive sources or materials in conducting research such as universities and hospitals. The purpose of this information gathering is to identify important research that has been impacted and/or stopped because of a lack of disposal options for radioactive sources or materials. This information will be provided to the Commission to inform future Commission decisionmaking. The NRC is planning to host a public meeting on this topic at its Rockville, MD Headquarters on the morning of October 7, 2009.

DATES: The public is invited to provide information related to the above topic until October 20, 2009. Comments submitted by mail should be postmarked by that date to ensure consideration. Comments received after that date will be considered to the extent practical. The NRC is planning to host a public meeting at its Rockville, MD Headquarters to solicit public input on the questions identified below on October 7, 2009. Because of anticipated interest, the meeting will be Web cast. Please check the NRC public Web site at http://www.nrc.gov/public-involve/public-meetings/index for the meeting and Web cast details.

ADDRESSES: Members of the public are invited and encouraged to submit comments by any of the following methods. Please include Docket ID NRC-2009-0346 in the subject line of your comments/responses. Comments submitted in writing or in electronic form will be posted on the NRC Web site and on the Federal rulemaking Web site Regulations.gov. Because your comments/responses will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Federal Rulemaking Web site: Go to http://www.regulations.gov and search for documents filed under Docket ID NRC-2009-0346. Address questions about NRC dockets to Carol Gallagher 301-492-3668; e-mail Carol.Gallagher@nrc.gov.

Mail comments to: Michael T. Lesar, Chief, Rulemaking and Directives Branch (RDB), Division of Administrative Services, Office of Administration, Mail Stop: TWB-05-B01M, U.S. Nuclear Regulatory Commission, Washington, DC 20555-0001, or by fax to RDB at (301) 492-3446.

You can access publicly available documents related to this notice using the following methods:

NRC's Public Document Room (PDR): The public may examine and have copied, for a fee, publicly available documents at the NRC's PDR, Public File Area 01 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov.

Federal Rulemaking Web site: Public comments received in response to this notice can be found at http://www.regulations.gov by searching on Docket ID: NRC-2009-0346.

FOR FURTHER INFORMATION CONTACT: Mr. James Shaffner, Project Manager, Low-Level Waste Branch, Division of Waste Management and Environmental Protection, Office of Federal and State Materials and Environmental Management Programs, U.S. Nuclear Regulatory Commission, Rockville, MD 20852. Telephone: (301) 415-5496; fax number: (301) 415-5369; e-mail: james.shaffner@nrc.gov.

SUPPLEMENTARY INFORMATION:

I. Background

The NRC staff briefed the Commission on the status of the LLW program on April 17, 2009. External stakeholders who briefed the Commission noted that the use of radioactive material in nuclear medicine biomedical research needed cost effective disposal for low-level radioactive waste and that key radionuclide research products are no longer available due to high radiological waste disposal costs. Following the briefing, the Commission directed the staff to work with stakeholders to develop a list or catalog of important research that has been impacted and/or stopped because of a lack of disposal options for radioactive sources. In its approach to complying with Commission direction, the staff decided to expand its inquiry to include the use of other radioactive material as well. Therefore, the NRC staff is requesting information and soliciting public comment to identify and catalog important research that has been impacted or stopped because of a lack of disposal options for sealed sources or radioactive materials. The staff is requesting that persons consider and address the following 13 questions as they develop and provide their remarks.

1. Are you involved in research involving the use of radioactive sources or materials, and if so, in what specific area (medical, academic, medical administration, etc.)

2. If you answered yes to question no. 1, please describe the research procedure(s) that is performed, or was performed prior to disposal access limitations.

3. Have alternative technologies taken the place of radioactive materials because of LLW disposal access, and if so, what have been the impacts, both positive and negative?

4. In what State and LLW Compact is the research facility that you're addressing located?

5. What kind of licensee uses the radioactive sources or materials that are being addressed (university, hospital, private research, other)?

6. How do you or did you disposition the spent sources or radioactive materials?

a. LLW disposal facility

b. Store onsite

c. Return to manufacturer

d. Other, explain

7. Have you historically disposed of spent sources or radioactive materials at a low-level waste disposal facility?

8. If your answer to question no. 7 was yes, has your research been affected by the lack of access to a low-level waste disposal facility for either spent radioactive sources or radioactive materials? If so, please explain.

9. Are you currently storing onsite radioactive sources or materials that would have been disposed of offsite had disposal access been available?

10. Has the lack of disposal access for either radioactive sources or materials caused you to re-evaluate research needs and techniques?

11. What adaptations have you made to reduce waste volume and improve the management of low-level radioactive waste disposal?

a. Increased onsite storage capacity

b. Increased use of nonradioactive sources

c. Limit number of authorized users

d. Reduce volume of waste shipped

12. Has the cost of low-level radioactive waste disposal affected your research? If so, describe how.

13. Provide any additional comments.

In conjunction for this request for information, the NRC staff plans to enhance information gathering on this topic by providing the public with the opportunity to participate via Web cast. Please refer to NRC's public Web site, http://www.nrc.gov/public-involve/public-meetings/index, starting in late September for specific meeting and Web cast details.

II. Further Information

The April 17, 2009 Commission Brief can be viewed via the NRC Web cast archive: http://video.nrc.gov/nrcArch.cfm and the transcripts, slides, and materials from the April 17, 2009 public meeting can be found at http://www.nrc.gov/reading-rm/doc-collections/commission/tr/2009. For questions related to this questionnaire, please contact Gregory Suber, 301-415-8087, gregory.suber@nrc.gov.

Dated at Rockville, Maryland this 31st day of July 2009.
For the Nuclear Regulatory Commission.
Patrice M. Bubar,
Deputy Director, Environmental Protection and Performance Assessment Directorate, Division of Waste Management and Environmental Protection, Office of Federal and State Materials and Environmental Management Programs.

[FR Doc. E9-18947 Filed 8-6-09; 8:45 am]

BILLING CODE 7590-01-P